DEPARTMENT OF ENERGY

Federal Energy Regulatory Commission

[Docket No. ER01-2437-000, et al.]

Ameren Services Company, et al.; Electric Rate and Corporate Regulation Filings

July 3, 2001.

Take notice that the following filings have been made with the Commission:

1. Ameren Services Company

[Docket No. ER01-2437-000]

Take notice that on June 27, 2001, Ameren Services Company (ASC) tendered for filing a Network Integration Transmission Service Agreement between ASC and EnerStar Power Corporation. ASC asserts that the purpose of the Agreement is to permit ASC to provide transmission service to unbundled Illinois retail customers of EnerStar Power Corporation pursuant to Ameren's Open Access Tariff.

Comment date: July 18, 2001, in accordance with Standard Paragraph E at the end of this notice.

2. Sempra Energy Resources

[Docket No. ER01-2443-000]

Take notice that on June 28, 2001, Sempra Energy Resources (SER), tendered for filing Service Agreement No. 1 to its FERC Electric Rate Schedule No. 1, which authorized SER to make sales at market-based rates.

Comment date: July 19, 2001, in accordance with Standard Paragraph E at the end of this notice.

3. Tri-State Power, LLC

[Docket No. ER01-2444-000]

Take notice that on June 27, 2001, Tri-State Power, LLC (TSP) petitioned the Commission for acceptance of TSP Rate Schedule FERC No. 1; the granting of certain blanket approvals, including the authority to sell electricity at market-based rates; and the waiver of certain Commission regulations. TSP intends to engage in wholesale electric power and energy sales as a marketer.

Comment date: July 18, 2001, in accordance with Standard Paragraph E at the end of this notice.

4. Michigan Electric Transmission Company

[Docket No. ER01-2445-000]

Take notice that on June 28, 2001, Michigan Electric Transmission Company (Michigan Transco) tendered for filing a First Revised Michigan Transco Electric Rate Schedule FERC No. 6. The revision eliminates periodic facilities charges, effective May 1, 2001. Michigan Transco requests an effective date of May 1, 2001, and therefore requests waiver of the Commission's notice requirements.

Copies of the filing were served upon Northern, the Michigan Public Service Commission and the Indiana Utility Regulatory Commission.

Comment date: July 19, 2001, in accordance with Standard Paragraph E at the end of this notice.

5. PJM Interconnection, L.L.C.

[Docket No. ER01-2446-000]

Take notice that on June 28, 2001, PJM Interconnection, L.L.C. (PJM), tendered for filing an executed umbrella service agreement for network integration transmission service under state required retail access programs for BP Energy Company (BP Energy).

Copies of this filing were served upon BP Energy and the state commissions within the PJM control area.

Comment date: July 19, 2001, in accordance with Standard Paragraph E at the end of this notice.

6. New England Power Company

[Docket No. ER01-2447-000]

Take notice that on June 28, 2001, New England Power Company (NEP) submitted for filing a service agreement between NEP and ANP Bellingham Energy Company, LLC (ANP) for network integration transmission service under NEP's FERC Electric Tariff, Second Revised Volume No. 9, Original Service Agreement No. 203.

Copies of the filing were served upon ANP and the Department of Telecommunications and Energy of the Commonwealth of Massachusetts.

Comment date: July 19, 2001, in accordance with Standard Paragraph E at the end of this notice.

7. Equitec Power, LLC

[Docket No. ER01-2439-000]

Take notice that on June 27, 2001, Equitec Power, LLC, (Equitec Power) petitioned the Commission for acceptance of Equitec Power Rate Schedule FERC No. 1; the granting of certain blanket approvals, including the authority to sell electricity at market-based rates; and the waiver of certain Commission regulations.

Comment date: July 18, 2001, in accordance with Standard Paragraph E at the end of this notice.

8. Southwest Power Pool, Inc.

[Docket No. ER01-2448-000]

Take notice that on June 28, 2001, Southwest Power Pool, Inc. (SPP) submitted for filing an executed service agreement for Firm point-to-Point Transmission Service with Southwestern Public Service Marketing (Transmission Customer). SPP seeks an effective date of August 1, 2001 for this service agreement.

Copies of this filing was served on the Transmission Customer.

Comment date: July 19, 2001, in accordance with Standard Paragraph E at the end of this notice.

9. Golden Spread Electric Cooperative, Inc.

[Docket No. ER01-2449-000]

Take notice that on June 28, 2001, Golden Spread Electric Cooperative, Inc. (Golden Spread) tendered for filing a long-term Service Agreement between Golden Spread and South Plains Electric Cooperative, Inc. Golden Spread requests that the Commission accept this filing as a service agreement under the Golden Spread's FERC Electric Tariff, Original Volume No. 1. Golden Spread requests an effective date of June 1, 2001. A copy of this filing has been served on South Plains.

Comment date: July 19, 2001, in accordance with Standard Paragraph E at the end of this notice.

10. TXU Electric Company

[Docket No. ER01-2450-000]

Take notice that on June 28, 2001, TXU Electric Company (TXU Electric) tendered for filing executed transmission service agreements (TSAs) with El Paso Merchant Energy, L.P. (El Paso Energy) and AXIA Energy, L.P. (AXIA Energy) for certain transmission service transactions under TXU Electric's Tariff for Transmission Service To, From and Over Certain HVDC Interconnections.

Comment date: July 19, 2001, in accordance with Standard Paragraph E at the end of this notice.

11. Emmett Power Company

[Docket No. ER01-2451-000]

Take notice that on June 28, 2001, Emmett Power Company (EPC) tendered for filing a petition for acceptance of an initial rate schedule authorizing EPC to make wholesale sales of power at market-based rates, requests for waivers and blanket authority typically granted to market-based rate authorized entities, and a request for an effective date for its market-based rate authorization as of July 1, 2001.

Comment date: July 19, 2001, in accordance with Standard Paragraph E at the end of this notice.

12. Virginia Electric and Power Company

[Docket No. ER01-2452-000]

Take notice that on June 28, 2001, Virginia Electric and Power Company (Dominion Virginia Power or the Company) tendered for filing the Service Agreement for Non-Firm Point-to-Point Transmission Service by Virginia Electric and Power Company. The Company request an effective date of June 28, 2001.

Copies of the filing were served upon Topaz Energy Associates, LLC, the Virginia State Corporation Commission, and the North Carolina Utilities Commission.

Comment date: July 19, 2001, in accordance with Standard Paragraph E at the end of this notice.

13. PacifiCorp

[Docket No. ER01-2453-000]

Take notice that PacifiCorp on June 28, 2001, tendered for filing in accordance with 18 CFR 35 of the Commission's Rules and Regulations a proposed change to its open access transmission tariff, PacifiCorp's FERC Electric Tariff, Second Revised Volume No. 11 (Tariff). The revision proposes to eliminate the use of the California ISO prices in calculating hour-to-hour deviations for financial settlement of energy imbalance and real power losses.

Copies of this filing were supplied to the Washington Utilities and Transportation Commission and the Public Utility Commission of Oregon.

Comment date: July 19, 2001, in accordance with Standard Paragraph E at the end of this notice.

14. Exelon Generation Company, LLC

[Docket No. ER01-2454-000]

Take notice that on June 28, 2001, Exelon Generation Company, LLC (Exelon Generation), submitted an amendment to a service agreement between Exelon Generation and PECO Energy Company under Exelon Generation's wholesale power sales tariff, FERC Electric Tariff First Revised Volume No. 1.

Comment date: July 19, 2001, in accordance with Standard Paragraph E at the end of this notice.

15. EWO Marketing, L.P.

[Docket No. ER01-2456-000]

Take notice that on June 28, 2001, EWO Marketing, L.P. submitted for filing a request for a limited, temporary waiver of the information sharing restriction of its code of conduct. The waiver is requested for the narrow purpose of allowing EWOM to participate in a corporate unbundling mandated by Texas law. Copies of this filing have been served on the Arkansas Public Service Commission, Mississippi Public Service Commission, Louisiana Public Service Commission, Public Utility Commission of Texas, and the Council of the City of New Orleans.

Comment date: July 19, 2001, in accordance with Standard Paragraph E at the end of this notice.

16. PSEG Lawrenceburg Energy Company LLC

[Docket No. ER01-2460-000]

Take notice that on June 28, 2001, PSEG Lawrenceburg Energy Company LLC tendered for filing an application for waivers and blanket approvals under various regulations of the Commission and for an Order accepting its FERC Electric Tariff, Original Volume No. 1. PSEG Lawrenceburg proposes that its FERC Electric Tariff, Original Volume No. 1. 1 become effective upon commencement of service of its generation project potentially totaling 1150 MW located in Dearborn County, Indiana (the Lawrenceburg Facility). The Lawrenceburg Facility is expected to be commercially operational in the spring of 2003.

Comment date: July 19, 2001, in accordance with Standard Paragraph E at the end of this notice.

17. Puget Sound Energy, Inc.

[Docket Nos. OA96-161-000, ER96-697-001, ER96-1456-001, and ER97-4468-000 (Consolidated)]

Take notice that on June 29, 2001, Puget Sound Energy, Inc. (PSE) tendered for filing a revised Open Access Transmission Tariff (OATT). The revised OATT implements the settlement of issues in the above-referenced dockets, including, but not limited to, segmentation and annual peak issues. PSE requests an effective date of June 29, 2001 for the filing.

A copy of the filing was served upon all parties in the above-referenced dockets.

Comment date: July 20, 2001, in accordance with Standard Paragraph E at the end of this notice.

18. PSEG Waterford Energy LLC

[Docket No. ER01-2482-000]

Take notice that on June 28, 2001, PSEG Waterford Energy LLC tendered for filing an application for waivers and blanket approvals under various regulations of the Commission and for an Order accepting its FERC Electric Tariff, Volume No. 1. PSEG Waterford proposes that its FERC Electric Tariff, Original Volume No. 1 become effective upon commencement of service of its generation project potentially totaling 850MW located in Washington County, Ohio (the Waterford Facility). The Waterford Facility is expected to be commercially operable in phases with the facility operating in single-cycle mode during the summer of 2002, and then in combined-cycle mode beginning in 2003.

PSEG Waterford intends to sell energy and capacity from the PSEG Waterford Facility in the wholesale power market at market-based rates, and on such terms and conditions to be mutually agreed to with the purchasing party.

Comment date: July 19, 2001, in accordance with Standard Paragraph E at the end of this notice.

19. The Detroit Edison Company

[Docket Nos. EL01-51-003 and ER01-1649-003]

Take notice that on June 29, 2001, The Detroit Edison Company (Detroit Edison) tendered for filing with the Federal Energy Regulatory Commission (Commission) a compliance filing in accordance with the Commission's order in Detroit Edison Company, 95 FERC ¶ 61,415 (2001).

Comment date: July 20, 2001, in accordance with Standard Paragraph E at the end of this notice.

20. MPC Generating, LLC

[Docket No. EG01-250-000]

Take notice that on June 28, 2001, MPC Generating, LLC (Applicant) tendered for filing with the Federal Energy Regulatory Commission (Commission) an application for determination of exempt wholesale generator status pursuant to Part 365 of the Commission's regulations.

The applicant is a limited liability company that will engage directly or indirectly and exclusively in the business of owning and/or operating eligible facilities in the United States and selling electric energy at wholesale. The applicant proposed to own and operate an approximately 155 megawatt gas-fired combustion turbine located in Monroe, Georgia. The applicant seeks a determination of its exempt wholesale generator status. All electric energy sold by the applicant will be sold exclusively at wholesale.

Comment date: July 24, 2001, in accordance with Standard Paragraph E at the end of this notice. The commission will limit its consideration of comments to those that concern the adequacy or accuracy of the application.

21. DeSoto County Generating Company, LLC

[Docket No. EG01-251-000]

Take notice that on June 29, 2001, DeSoto County Generating Company, LLC (Applicant), 410 South Wilmington Street, Raleigh, NC 27602, tendered for filing with the Federal Energy Regulatory Commission (Commission) an application for determination of exempt wholesale generator status pursuant to Part 365 of the Commission's regulations.

The applicant is a limited liability company that will engage directly or indirectly and exclusively in the business of owning and/or operating eligible facilities in the United States and selling electric energy at wholesale. The applicant proposed to own and operate an approximately 380 megawatt gas-fired combustion turbine to be located in DeSoto County, Florida. The applicant seeks a determination of its exempt wholesale generator status. All electric energy sold by the applicant will be sold exclusively at wholesale.

Comment date: July 24, 2001, in accordance with Standard Paragraph E at the end of this notice. The Commission will limit its consideration of comments to those that concern the adequacy or accuracy of the application.

22. Central Maine Power Company

[Docket No. ER01-1795-001]

Take notice that on June 28, 2001, Central Maine Power Company (CMP) resubmitted for filing the First Amendment to the Interconnection Agreement by and between CMP and Boralex Athens Energy, Inc., conformed to the requirements of Order 614, and designated rate schedule FERC Electric Tariff, Fifth Revised, Volume No. 3, Service Agreement No. 35.

Comment date: July 19, 2001, in accordance with Standard Paragraph E at the end of this notice.

23. Cogentrix Lawrence County, LLC

[Docket No. ER01-1819-001]

Take notice that on June 28, 2001, Cogentrix Lawrence County, LLC (Lawrence County), an electric power developer organized under the laws of Delaware, filed a letter amending its petition for order accepting market-based rate tariff filed on April 18, 2001 in this proceeding.

Comment date: July 19, 2001, in accordance with Standard Paragraph E at the end of this notice.

24. Mid-Continent Area Power Pool

[Docket No. ER01-2189-000]

Take notice that on June 28, 2001, the Mid-Continent Area Power Pool (MAPP) filed to amend its May 31, 2001, filing in the above-referenced proceeding to withdraw long-term firm service agreements with Ameren Energy Marketing, Black Hills Power and Conoco Gas and Power Marketing.

A copy of this filing has been served on each individual designated on the Commission's service list in the above-captioned proceeding. MAPP has also mailed a copy of this filing to Ameren Energy Marketing, Black Hills Power and Conoco Gas and Power Marketing.

Comment date: July 19, 2001, in accordance with Standard Paragraph E at the end of this notice.

25. Mid-Continent Area Power Pool

[Docket No. ER01-2195-001]

Take notice that on June 28, 2001, Mid-Continent Area Power Pool (MAPP) submitted for filing a substitute sheet to its Settlement Tariff, filed on June 1, 2001, in the above-referenced docket. The substitute sheet reflects the correction of a technical error contained in the original version.

Copies of this filing have been served on those parties listed on the official service list in this proceeding and the state commissions in the MAPP region.

Comment date: July 19, 2001, in accordance with Standard Paragraph E at the end of this notice.

26. Elwood Energy LLC, Elwood Energy II, LLC, Elwood Energy III, LLC, Dominion Energy, Inc., DGI Holdings, Inc., Dominion Elwood, Inc., Dominion Elwood II, Inc., Dominion Elwood III, Inc., Peoples Elwood, LLC, Peoples Elwood II, LLC, Peoples Elwood III, LLC

[Docket No. EC01-121-000]

Take notice that on June 22, 2001, Elwood Energy LLC, Elwood Energy II, LLC, Elwood Energy III, LLC (Project Entities), Dominion Energy, Inc., DGI Holdings, Inc., Dominion Elwood, Inc., Dominion Elwood II, Inc. and Dominion Elwood III, Inc. (collectively, Dominion Applicants), and Peoples Elwood, LLC, Peoples Elwood II, LLC and Peoples Elwood III, LLC (collectively, PEC Applicants) (Project Entities, Dominion Applicants and Peoples Applicants collectively, the Applicants) filed with the Federal Energy Regulatory Commission (Commission) a joint application (Application) pursuant to Section 203 of the Federal Power Act for authorization of mergers among the Project Entities with Elwood Energy LLC as the surviving entity and related transfers of jurisdictional facilities, and certain related mergers among the Dominion Applicants and among the PEC Applicants, who are upstream entities that own, directly or indirectly, interests in the Project Entities. All of the Project Entities are exempt wholesale generators that own natural gas-fired peaking generation facilities, limited interconnection facilities and Commission jurisdictional contracts. Elwood Energy, LLC, Elwood Energy II, LLC and Elwood Energy III, LLC own 600 MW, 300 MW and 450 MW, respectively, of natural gas-fired peaking generation facilities located in Elwood, Illinois. All of the Project Entities are owned directly or indirectly, 50 percent by the Dominion Applicants and 50 percent by the PEC Applicants. The Dominion Applicants are wholly-owned, direct or indirect subsidiaries of Dominion Resources, Inc. The PEC Applicants are wholly-owned, direct or indirect subsidiaries of Peoples Energy Corporation.

Comment date: July 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17308 Filed 7-10-01; 8:45 am]

BILLING CODE 6717-01-P